DEPARTMENT OF THE INTERIOR

Bureau of Land Management

Fish and Wildlife Service

[51100000.GN0000.LVEMF1503760.LLNVW03000.15x MO# 4500136770]

Notice of Availability of the Final Environmental Impact Statement for the Proposed Hycroft Mine Phase II Expansion Project, Humboldt and Pershing Counties, Nevada

AGENCY: Bureau of Land Management, and Fish and Wildlife Service, Interior.

ACTION: Notice of availability.

SUMMARY: In compliance with the National Environmental Policy Act of 1969, as amended (NEPA), and the Federal Land Policy and Management Act of 1976, as amended, the Bureau of Land Management (BLM) Black Rock Field Office, Winnemucca, Nevada, and the U.S. Fish and Wildlife Service (USFWS) have prepared a joint Final Environmental Impact Statement (EIS) and by this notice are announcing the beginning of the availability of the Final EIS. The BLM is the lead agency in development of the Final EIS and has evaluated Hycroft Resource and Development, Inc.'s (HRDI's) request for the proposed expansion of their operations at the existing Hycroft Mine. The USFWS is a coordinating agency with the BLM on the development of this EIS and has evaluated the applicant's Eagle Conservation Plan (ECP), which describes HRDI's request to remove inactive (i.e., outside the nesting season) eagle nests and for a 30-year incidental take permit for golden eagles under the Bald and Golden Eagle Protection Act (Eagle Act).

DATES: This notice initiates the availability of the Final EIS. No ROD will issue for 30 days past the publication of this NOA.

ADDRESSES: To access the Final EIS and if more information is required please reach out the appropriate contact below

Project Mining Expansion:

• Website: https://go.usa.gov/xyu54

• Email: wfoweb@blm.gov

• Fax: (775) 623-1503

• Mail: 5100 East Winnemucca Boulevard, Winnemucca, NV 89445

Eagle Take Permit:

• Email: fw8_eaglepermits@fws.gov

• Fax: (916) 414-6486

• Mail: 2800 Cottage Way, W-2605, Sacramento, CA 95825

FOR FURTHER INFORMATION CONTACT: For questions about the proposed mine expansion, contact Taylor Grysen—BLM Project Manager, telephone: (775) 623-1500, address: 5100 East Winnemucca Boulevard, Winnemucca, NV 89445. For questions about the eagle take permit contact: Heather Beeler—USFWS Project Manager, telephone: (916) 414-6651, address: 2800 Cottage Way, W-2605, Sacramento, CA 95825. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: HRDI has proposed an expansion to their operations at the existing Hycroft Mine, which is located approximately 55 miles west of Winnemucca, Nevada, in Humboldt and Pershing Counties. The Hycroft Mine Phase II Expansion proposed action proposes to increase the authorized Plan of Operations boundary to 27,835 acres, of which 26,082 acres would be on BLM-administered public lands. Under the project as proposed by HRDI, the surface disturbance would increase by 8,737 acres, from 6,144 acres to 14,881 acres, which includes 13,141 acres located on land administered by the BLM Black Rock Field Office. Surface disturbance on private land would decrease by 44 acres, from 1,784 acres to 1,740 acres. The proposed project would include the following activities: Expanding the authorized Plan of Operations boundary to the east; extending mining and ore processing activities to 2039; increasing the rate of process water pumping and extending until 2041; constructing and operating the Northeast Tailings Storage Facility (TSF) and associated pipeline corridor and haul road; constructing and operating the North Heap Leach Facility (HLF) East expansion and associated solution ponds; expanding the existing Brimstone Pit below the pre-mining groundwater table; conducting active dewatering of the Brimstone Pit through the installation and operation of dewatering wells; conducting passive dewatering within the expanded pit footprint; expanding the South Waste Rock Facility (WRF); modifying the approved land use in the South Processing Complex to allow for the option of constructing the Southwest WRF in place of the complex, if desired; modifying waste backfill plans with respect to the proposed mining plan; expanding haul and secondary roads around the pits, WRFs, HLFs, and TSF; modifying the milling operation to process ore in an ambient oxidation and leaching process; constructing and operating an oxygen plant; constructing stormwater diversions, installing culverts, and other stormwater controls; constructing growth media stockpiles; incorporating four HRDI rights-of-way (ROWs) (microwave repeater site and road [NVN046292], Floka access road [NVN054893], buried pipeline, wells, power distribution and access roads [NVN046564], and road and water pipeline [NVN039119]) that exist wholly within the authorized Plan boundary into the amendment to the Plan and relinquish the ROWs with the BLM; continuing use of the well field ROW; relocating rangeland improvement facilities within the footprint of the Northeast TSF; rerouting Rosebud Road around the Northeast TSF; reallocating 10 acres of exploration disturbance on private land to public land; and implementing the authorized and proposed additional applicant-committed Environmental Protection Measures to new facilities and activities. Alternative A would result in approximately 4,800 acres less surface disturbance, and the plan boundary would be nearly 7,800 acres less than the proposed action. Under Alternative A, all components of the proposed action would be the same except the Northeast TSF and all associated infrastructure would not be constructed, rather, the Southwest TSF would be constructed instead with all associated infrastructure. Alternative A would include an expansion to the authorized Plan of Operations boundary to accommodate the Southwest TSF (Alternative A Expansion). The Alternative A Expansion of the Plan of Operations boundary would encompass approximately 5,310 acres of public lands administered by the BLM. Alternative A would expand the authorized Project boundary, which encompasses 14,753 acres, by 5,310 acres of public lands administered by the BLM, for a combined total of 20,063 acres. Under Alternative A, HRDI would construct and operate an approximately 2,426-acre facility (dam and tails surface) known as the Southwest TSF to accommodate tailings generated by mining sulfide ore below the groundwater table and processed in the authorized mill facility located on private land.

The Winnemucca District, Black Rock Field Office has selected Alternative A, as outlined in Chapter 2 of the Draft EIS, including the applicant's committed EPMs specified in the Draft EIS Section 5.3 and all of the mitigation specified in the Draft EIS Section 5.2 for Alternative A. This aligns with the USFWS Eagle Take Permit Alternative A (USFWS Alternative A Eagle Permit Decision) as the Preferred Action based on the outcome of the Final EIS. HRDI's Eagle Conservation Plan contains commitments to avoid, minimize, and mitigate adverse effects on golden eagles resulting from the implementation of the Project. There are no new anticipated significant impacts on the cumulative effects of the area since a mine already exists in the area; impacting the air quality, visual resources, and the cultural viewshed of the area.

Ten alternatives addressing pit lake concerns, mine feature concerns, and eagle permit concerns were considered but eliminated from analysis for the inability meet the project's purpose and need, technical feasibility, the inability to reduce environmental impacts and for not being in compliance with regulatory and legal guidance.

In addition, HRDI has submitted an application to the USFWS requesting authorization to remove inactive golden eagle nests and for incidental take under the Eagle Act for operational activities associated with both the BLM's currently authorized mining activities and proposed expansion Project. The Project would also affect golden eagle nests and territories. HRDI's ECP is the foundation of the permit application and contains commitments to avoid, minimize, and mitigate adverse effects on golden eagles resulting from the implementation of the Project.

Through scoping the BLM has identified, and through the EIS the agencies have analyzed impacts to the following resources areas: Air and atmospheric resources; cultural resources (including National Historic Trails); noxious weeds, invasive species, and nonnative species; migratory birds; Native American religious concerns; wastes and materials (hazardous and solid); water quality (surface and ground); geology, minerals, and energy; golden eagles; lands and realty; paleontology; rangeland management; recreation; social values and economics; soils; special status species (plants and wildlife); transportation and access; vegetation; visual resources; and wildlife. The EIS describes and analyzes the proposed Project's direct, indirect, and cumulative impacts on all affected resources.

In addition to the Mine Expansion Proposed Action (BLM Decision) and the Eagle Take Permit Proposed Action (USFWS Eagle Permit Decision), the following alternatives are also analyzed in the EIS: The Mine Expansion Alternative A (BLM Alternative Decision), referred to as Alternative A; Eagle Take Permit Alternative A (USFWS Alternative A Eagle Permit Decision); the BLM No Action Alternative; and the USFWS No Action Alternative.

On December 30, 2014, an initial Notice of Intent (NOI) was published in the Federal Register inviting scoping comments on the proposed action. A total of 14 scoping comment letters were received for the December 20, 2014, through January 29, 2015, public scoping period. On September 22, 2017, a second NOI was published in the Federal Register inviting scoping comments on the requested eagle take permit as related to the Eagle Take Permit Proposed Action (USFWS Eagle Permit Decision) and the ECP. A total of nine scoping comment letters were received during the September 22, 2017, through November 21, 2017, public scoping period. Concerns raised included impacts to air quality, cultural resources, environmental justice, lands, realty and transportation, Native American religious concerns, rangeland management, recreation, soils, visual resources, wastes and materials (hazardous and solid), water resources, vegetation, and wildlife. A total of nine public comment letters were received during the May 17, 2019, through July 14, 2019, public comment period. Concerns raised included impacts to air quality, cultural resources, environmental justice, Native American religious concerns, rangeland management, recreation, soils, visual resources, wastes and materials (hazardous and solid), water resources, vegetation, and wildlife. Further clarification is provided in the Final EIS addressing these comments.

The BLM has utilized and coordinated the NEPA scoping and comment process to help fulfill the public involvement requirements under the National Historic Preservation Act (NHPA) (54 U.S.C. 306108) as provided in 36 CFR 800.2(d)(3)—and continues to do so. The information about historic and cultural resources within the area potentially affected by the proposed Project has assisted the BLM in identifying and evaluating impacts to such resources in the context of both NEPA and Title 54 of the NHPA.

The BLM and USFWS have consulted and continue to consult with numerous Native Indian tribes on a government-to-government basis in accordance with Executive Order 13175 and other policies. Tribal concerns, including impacts to Indian trust assets and potential impacts to cultural resources have been analyzed in the EIS.

Federal, State, and local agencies, along with tribes and other stakeholders that may be interested in or affected by the proposed Project that the BLM and USFWS have evaluated, are notified of the availability of the Final EIS. No ROD will issue for 30 days past the publication of this NOA.

Authority: 40 CFR 1501.7.

Ester McCullough,
District Manager, Winnemucca District Office.
Jody Holzworth,
Deputy Regional Director, Pacific Southwest Region, Sacramento, California.

[FR Doc. 2019-19389 Filed 9-5-19; 8:45 am]

BILLING CODE 4310-HC-P